DEPARTMENT OF HOMELAND SECURITY

Federal Emergency Management Agency

[Docket ID FEMA-2023-0002; Internal Agency Docket No. FEMA-B-2368]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
California: San Luis Obispo | City of Arroyo Grande (22-09-1729P). | Whitney McDonald, City of Arroyo Grande Manager, 300 East Branch Street, Arroyo Grande, CA 93420. | Public Works Department, 300 East Branch Street, Arroyo Grande, CA 93420. | https://msc.fema.gov/portal/advanceSearch. | Oct. 2, 2023 | 060305
Colorado:
Chaffee | City of Salida (23-08-0089P). | The Honorable Dan Shore, Mayor, City of Salida, 448 East 1st Street, Suite 112, Salida, CO 81201. | Community Development Department, 448 East 1st Street, Suite 112, Salida, CO 81201. | https://msc.fema.gov/portal/advanceSearch. | Nov. 13, 2023 | 080031
Chaffee | Unincorporated areas of Chaffee County (23-08-0089P). | Keith Baker, Chair, Chaffee County Board of Commissioners, P.O. Box 699, Salida, CO 81201. | Chaffee County Development Services Department, 104 Crestone Avenue, Salida, CO 81201. | https://msc.fema.gov/portal/advanceSearch. | Nov. 13, 2023 | 080269
El Paso | City of Colorado Springs (22-08-0842P). | The Honorable John Suthers, Mayor, City of Colorado Springs, 30 South Nevada Avenue, Suite 601, Colorado Springs, CO 80903. | Pikes Peak Regional Building Department, Floodplain Management Office, 2880 International Circle, Colorado Springs, CO 80910. | https://msc.fema.gov/portal/advanceSearch. | Oct. 12, 2023 | 080060
El Paso | City of Manitou Springs (22-08-0492P). | The Honorable John Graham, Mayor, City of Manitou Springs, 606 Manitou Avenue, Manitou Springs, CO 80829. | Pikes Peak Regional Building Department, Floodplain Management Office, 2880 International Circle, Colorado Springs, CO 80910. | https://msc.fema.gov/portal/advanceSearch. | Sep. 29, 2023 | 080063
Jefferson | City of Lakewood (23-08-0091P). | The Honorable Adam Paul, Mayor, City of Lakewood, 480 South Allison Parkway, Lakewood, CO 80226. | Public Works Department, 470 South Allison Parkway, Lakewood, CO 80226. | https://msc.fema.gov/portal/advanceSearch. | Oct. 6, 2023 | 085075
Weld | City of Greeley (22-08-0472P). | The Honorable John Gates, Mayor, City of Greeley, 1000 10th Street, Greeley, CO 80631. | City Hall, 1000 10th Street, Greeley, CO 80631. | https://msc.fema.gov/portal/advanceSearch. | Nov. 2, 2023 | 080184
Weld | Town of Kersey (22-08-0472P). | The Honorable Gary Lagrimanta, Mayor, Town of Kersey, P.O. Box 657, Kersey, CO 80644. | Town Hall, 446 1st Street, Kersey, CO 80644. | https://msc.fema.gov/portal/advanceSearch. | Nov. 2, 2023 | 080185
Weld | Unincorporated areas of Weld County (22-08-0472P). | Mike Freeman, Chair, Weld County Board of Commissioners, P.O. Box 758, Greeley, CO 80632. | Weld County Administrative Building, 1150 O Street, Greeley, CO 80631. | https://msc.fema.gov/portal/advanceSearch. | Nov. 2, 2023 | 080266
Florida:
Brevard | Town of Grant-Valkaria (23-04-1676P). | Honorable Del Yonts, Mayor, Town of Grant-Valkaria, 1449 Valkaria Road, Grant-Valkaria, FL 32950. | Town Hall, 1449 Valkaria Road, Grant-Valkaria, FL 32950. | https://msc.fema.gov/portal/advanceSearch. | Nov. 15, 2023 | 120224
Marion | Unincorporated areas of Marion County (22-04-5182P). | Craig Curry, Chair, Marion County Board of Commissioners, 601 Southeast 25th Avenue, Ocala, FL 34471. | Marion County Administration, 601 Southeast 25th Avenue, Ocala, FL 34471. | https://msc.fema.gov/portal/advanceSearch. | Nov. 17, 2023 | 120160
Monroe | Village of Islamorada (23-04-2764P). | The Honorable Joseph Buddy Pinder III, Mayor, Village of Islamorada, 86800 Overseas Highway, Islamorada, FL 33036. | Building Department, 86800 Overseas Highway, Islamorada, FL 33036. | https://msc.fema.gov/portal/advanceSearch. | Oct. 10, 2023 | 120424
Pasco | Unincorporated areas of Pasco County (23-04-1144P). | Mike Carballa, Pasco County Administrator, 8731 Citizens Drive, New Port Richey, FL 34654. | Pasco County Administration Building, 8731 Citizens Drive, New Port Richey, FL 34654. | https://msc.fema.gov/portal/advanceSearch. | Nov. 13, 2023 | 120230
Pasco | Unincorporated areas of Pasco County (23-04-1704P). | Mike Carballa, Pasco County Administrator, 8731 Citizens Drive, New Port Richey, FL 34654. | Pasco County Administration Building, 8731 Citizens Drive, New Port Richey, FL 34654. | https://msc.fema.gov/portal/advanceSearch. | Nov. 13, 2023 | 120230
Georgia: Bulloch | City of Statesboro (23-04-2242P). | The Honorable Jonathan M. McCollar, Mayor, City of Statesboro, 50 East Main Street, Statesboro, GA 30458. | City Hall, 50 East Main Street, Statesboro, GA 30458. | https://msc.fema.gov/portal/advanceSearch. | Nov. 17, 2023 | 130021
Kentucky: Jefferson | Metropolitan Government of, Louisville and Jefferson County (23-04-3227P). | The Honorable Craig Greenberg, Mayor, Metropolitan Government of, Louisville and Jefferson County, 527 West Jefferson Street, Louisville, KY 40202. | Louisville/Jefferson County Metropolitan Sewer District, 700 West Liberty Street, Louisville, KY 40203. | https://msc.fema.gov/portal/advanceSearch. | Nov. 3, 2023 | 210120
Maryland: Baltimore | Unincorporated areas of Baltimore County (23-03-0139P). | John A. Olszewski, Jr., Baltimore County Executive, 400 Washington Avenue, Towson, MD 21204. | Baltimore County Department of Public Works and Transportation, 111 West Chesapeake Avenue, Room 205, Towson, MD 21204. | https://msc.fema.gov/portal/advanceSearch. | Nov. 16, 2023 | 240010
North Carolina: Cabarrus | Town of Harrisburg (23-04-1302P). | The Honorable Jennifer Teague, Mayor, Town of Harrisburg, P.O. Box 100, Harrisburg, NC 28075. | Planning and Economic Development Department, 4100 Main Street, Suite 102, Harrisburg, NC 28075. | https://msc.fema.gov/portal/advanceSearch. | Dec. 11, 2023 | 370038
Pennsylvania:
Montgomery | Borough of Collegeville (23-03-0045P). | Catherine Kernen, President, Borough of Collegeville Council, 491 East Main Street, Collegeville, PA 19426. | Borough Hall, 491 East Main Street, Collegeville, PA 19426. | https://msc.fema.gov/portal/advanceSearch. | Oct. 16, 2023 | 421900
Montgomery | Township of Lower Providence (23-03-0045P). | E. J. Mentry, Manager, Township of Lower Providence, 100 Parklane Drive, Eagleville, PA 19403. | Community Development Department, 100 Parklane Drive, Eagleville, PA 19403. | https://msc.fema.gov/portal/advanceSearch. | Oct. 16, 2023 | 420703
South Carolina: Orangeburg | Unincorporated areas of Orangeburg County (22-04-0400P). | Harold Young, Orangeburg County Administrator, 1437 Amelia Street, Orangeburg, SC 29115. | Orangeburg County Floodplain Development Department, 1437 Amelia Street, Orangeburg, SC 29115. | https://msc.fema.gov/portal/advanceSearch. | Nov. 2, 2023 | 450160
Texas:
Bowie | City of Texarkana (22-06-2469P). | The Honorable Bob Bruggeman, Mayor, City of Texarkana, 220 Texas Boulevard, Texarkana, TX 75501. | Public Works Department, 220 Texas Boulevard, Texarkana, TX 75501. | https://msc.fema.gov/portal/advanceSearch. | Nov. 2, 2023 | 480060
Collin | City of McKinney (22-06-2372P). | The Honorable George Fuller, Mayor, City of McKinney, P.O. Box 517, McKinney, TX 75070. | Engineering Department, 221 North Tennessee Street, McKinney, TX 75069. | https://msc.fema.gov/portal/advanceSearch. | Nov. 13, 2023 | 480135
Collin | City of Melissa (22-06-2372P). | The Honorable Jay Northcut, Mayor, City of Melissa, 3411 Barker Avenue, Melissa, TX 75454. | City Hall, 3411 Barker Avenue, Melissa, TX 75454. | https://msc.fema.gov/portal/advanceSearch. | Nov. 13, 2023 | 481626
Collin | Unincorporated areas of Collin County (22-06-2372P). | The Honorable Chris Hill, Collin County Judge, 2300 Bloomdale Road, Suite 4192, McKinney, TX 75071. | Collin County Engineering Department, 4690 Community Avenue, Suite 200, McKinney, TX 75071. | https://msc.fema.gov/portal/advanceSearch. | Nov. 13, 2023 | 480130
Denton | City of Denton (23-06-0154P). | Sara Hensley, City of Denton Manager, 215 East McKinney Street, Denton, TX 76201. | Development Services Department, 401 North Elm Street, Denton, TX 76201. | https://msc.fema.gov/portal/advanceSearch. | Oct. 10, 2023 | 480194
Denton | Unincorporated areas of Denton County (23-06-0154P). | The Honorable Andy Eads, Denton County Judge, 1 Courthouse Drive, Suite 3100, Denton, TX 76208. | Denton County Hall, 1 Courthouse Drive, Denton, TX 76208. | https://msc.fema.gov/portal/advanceSearch. | Oct. 10, 2023 | 480774
Grayson | City of Denison (22-06-2995P). | The Honorable Janet Gott, Mayor, City of Denison, 300 West Main Street, Denison, TX 75020. | City Hall, 300 West Main Street, Denison, TX 75020. | https://msc.fema.gov/portal/advanceSearch. | Oct. 2, 2023 | 480259
Grayson | City of Sherman (22-06-2995P). | The Honorable David Plyler, Mayor, City of Sherman, 220 West Mulberry Street, Sherman, TX 75090. | City Hall, 220 West Mulberry Street, Sherman, TX 75090. | https://msc.fema.gov/portal/advanceSearch. | Oct. 2, 2023 | 485509
Guadalupe | City of Cibolo (23-06-0055P). | The Honorable Mark Allen, Mayor, City of Cibolo, 200 South Main Street, Cibolo, TX 78108. | Public Works Department, 108 Cibolo Drive, Cibolo, TX 78108. | https://msc.fema.gov/portal/advanceSearch. | Nov. 2, 2023 | 480267
Guadalupe | City of Schertz (23-06-0055P). | The Honorable Ralph Gutierrez, Mayor, City of Schertz, 1400 Schertz Parkway, Schertz, TX 78154. | Engineering Department, 1400 Schertz Parkway, Schertz, TX 78154. | https://msc.fema.gov/portal/advanceSearch. | Nov. 2, 2023 | 480269
Guadalupe | Unincorporated areas of Guadalupe County (23-06-0348P). | The Honorable Kyle Kutscher, Guadalupe County Judge, 101 East Court Street, Seguin, TX 78155. | Guadalupe County Main Office, 211 West Court Street, Seguin, TX 78155. | https://msc.fema.gov/portal/advanceSearch. | Nov. 24, 2023 | 480266
Hunt | City of Josephine (23-06-0202P). | The Honorable Jason Turney, Mayor, City of Josephine, P.O. Box 99, Josephine, TX 75164. | City Hall, 201 South Main Street, Josephine, TX 75173. | https://msc.fema.gov/portal/advanceSearch. | Sep. 29, 2023 | 480756
Hunt | City of Royse City (22-06-2909P). | The Honorable Clay Ellis, Mayor, City of Royse City, P.O. Box 638, Royse City, TX 75189. | City Hall, 305 North Arch Street, Royse City, TX 75189. | https://msc.fema.gov/portal/advanceSearch. | Nov. 13, 2023 | 480548
Hunt | Unincorporated areas of Hunt County (23-06-0202P). | The Honorable Bobby W. Stovall, Hunt County Judge, 2507 Lee Street, 2nd Floor, Greenville, TX 75401. | Hunt County Courthouse, 2507 Lee Street, 2nd Floor, Greenville, TX 75401. | https://msc.fema.gov/portal/advanceSearch. | Sep. 29, 2023 | 480363
Hunt | Unincorporated areas of Hunt County (22-06-2909P). | The Honorable Bobby W. Stovall, Hunt County Judge, 2507 Lee Street, 2nd Floor, Greenville, TX 75401. | Hunt County Courthouse, 2507 Lee Street, 2nd Floor, Greenville, TX 75401. | https://msc.fema.gov/portal/advanceSearch. | Nov. 13, 2023 | 480363
Medina | Unincorporated areas of Medina County (23-06-0288P). | The Honorable Keith Lutz, Medina County Judge, 1300 Avenue M, Room 250, Hondo, TX 78861. | Medina County Environmental Health Department, 1502 Avenue K, Hondo, TX 78861. | https://msc.fema.gov/portal/advanceSearch. | Nov. 3, 2023 | 480472
Tarrant | City of Everman (22-06-2189P). | The Honorable Ray Richardson, Mayor, City of Everman, 212 North Race Street, Everman, TX 76140. | City Hall, 212 North Race Street, Everman, TX 76140. | https://msc.fema.gov/portal/advanceSearch. | Oct. 2, 2023 | 480594
Tarrant | City of Fort Worth (22-06-2189P). | The Honorable Mattie Parker, Mayor, City of Fort Worth, 200 Texas Street, Fort Worth, TX 76102. | Transportation and Public Works Department, Engineering Vault, 200 Texas Street, Fort Worth, TX 76102. | https://msc.fema.gov/portal/advanceSearch. | Oct. 2, 2023 | 480596
Tarrant | City of Fort Worth (22-06-2655P). | The Honorable Mattie Parker, Mayor, City of Fort Worth, 200 Texas Street, Fort Worth, TX 76102. | Transportation and Public Works Department, Engineering Vault, 200 Texas Street, Fort Worth, TX 76102. | https://msc.fema.gov/portal/advanceSearch. | Oct. 30, 2023 | 480596
Tarrant | City of Fort Worth (23-06-0163P). | The Honorable Mattie Parker, Mayor, City of Fort Worth, 200 Texas Street, Fort Worth, TX 76102. | Transportation and Public Works Department, Engineering Vault, 200 Texas Street, Fort Worth, TX 76102. | https://msc.fema.gov/portal/advanceSearch. | Oct. 10, 2023 | 480596
Wise | City of New Fairview (23-06-0394P). | The Honorable John R. Taylor, Mayor, City of New Fairview, 999 Illinois Lane, New Fairview, TX 76078. | Public Works Department, 999 Illinois Lane, New Fairview, TX 76078. | https://msc.fema.gov/portal/advanceSearch. | Nov. 24, 2023 | 481629
Wise | Unincorporated areas of Wise County (23-06-0394P). | The Honorable J.D. Clark, Wise County Judge, 101 North Trinity Street, Decatur, TX 76234. | Wise County Public Works Department, 2901 South F.M. 51, Building 100, Decatur, TX 76234. | https://msc.fema.gov/portal/advanceSearch. | Nov. 24, 2023 | 481051
Virginia: Independent City | City of Newport News (22-03-1173P). | Cynthia D. Rohlf, Manager, City of Newport News, 2400 Washington Avenue, Newport News, VA 23607. | Department of Information Technology, 2400 Washington Avenue, Newport News, VA 23607. | https://msc.fema.gov/portal/advanceSearch. | Nov. 14, 2023 | 510103
West Virginia: Hardy | Unincorporated areas of Hardy County (23-03-0533P). | David J. Workman, President, Hardy County Commission, 204 Washington Street, Room 111, Moorefield, WV 26836. | Hardy County Courthouse, 204 Washington Street, Moorefield, WV 26836. | https://msc.fema.gov/portal/advanceSearch. | Nov. 16, 2023 | 540051

[FR Doc. 2023-18972 Filed 8-31-23; 8:45 am]

BILLING CODE 9110-12-P